DEPARTMENT OF COMMERCE

Foreign-Trade Zones Board

[Docket 7-2005]

Proposed Foreign-Trade Zone—Brattleboro, VT Application and Public Hearing

An application has been submitted to the Foreign-Trade Zones (FTZ) Board (the Board) by the Brattleboro Foreign Trade Zone LLC, a Vermont limited liability corporation, to establish a general-purpose foreign-trade zone at sites in Brattleboro, Vermont, adjacent to the Springfield, Massachusetts, Customs port of entry. The FTZ application was submitted pursuant to the provisions of the FTZ Act, as amended (19 U.S.C. 81a-81u), and the regulations of the Board (15 CFR part 400). It was formally filed on January 31, 2005. The applicant is authorized to make the proposal under Vermont Statutes Annotated, Title 9, Chapter 111, Sections 4121-4122.

The proposed zone would be the second general-purpose zone in the Springfield, Massachusetts, Customs, port of entry area. The existing zone is FTZ 201, Holyoke, Massachusetts (Grantee: Holyoke Economic Development and Industrial Corporation, Board Order 684, 59 FR 33254, 6/16/93).

The proposed zone would consist of 18 sites covering 333 acres in the Brattleboro, Vermont area: Site 1 (8 acres)—the DeWitt Beverage Inc. facility, 1568 Putney Road, Brattleboro; Site 2 (5 acres)—the Leader Distribution Systems, Inc. complex, 1566 Putney Road, Brattleboro; Site 3 (4 acres)—the Farmstead Realty LLC complex, 222-226 Old Ferry Road, Brattleboro; Site 4 ( 64 acres) C&S Wholesale Grocers, Inc. facility, 47 Old Ferry Road, Brattleboro; Site 5 (18 acres)—Brattleboro Development Credit Corporation Business Park, 22 Browne Court, Brattleboro; Site 6 (11 acres)—World Learning, Inc. complex, #1 Kipling Road, Brattleboro; Site 7 (4 acres)—Town Crier building, 16 Town Crier Drive, Brattleboro; Site 8 (61 acres)—VT Collateral Holdings, LLC complex, 90 Technology Drive, Brattleboro; Site 9 (.89 acres, 14,600 sq. ft.)—Rollerdrome LLC, 464 Putney Road, Brattleboro; Site 10 (.24 acres, 30,000 sq. ft.)—Midtown Mall building, 22-28 High Street, Brattleboro; Site 11 (.12 acres, 19,764 sq. ft.) Worden Properties complex, 106-110 Main St., Brattleboro; Site 12 (.31 acres, 13,229 sq. ft.)—Baker Realty Exchange building, 79-93 Main Street, Brattleboro; Site 13 (.08 acres, 3,060 sq. ft.)—Emerson's Realty warehouse, 52 Elliott Street, Brattleboro; Site 14 (3 acres)—Estey Organ Factory complex, 96-130 Birge Street, Brattleboro; Site 15 (11 acres)—Cotton Mill, 76 Cotton Mill Hill, Brattleboro; Site 16 (2 acres)—Fischbach Industrial Building, 112 Mercury Drive, Brattleboro; Site 17 (7 acres)—Famolare Inc. industrial lot, 350 John Seitz Drive, Brattleboro; Site 18 (133 acres, 7 parcels)—Delta Industries LLC, Delta Business campus, 21 Omega Drive, Brattleboro. The sites are owned by a number of public and private corporations.

The application indicates a need for zone services in the Brattleboro, Vermont, area. Several firms have indicated an interest in using zone procedures for warehousing/distribution activities for products such as baskets, robotic assembly parts and clothing. Specific manufacturing requests are not being sought at this time. Requests would be made to the Board on a case-by-case basis.

In accordance with the Board's regulations, a member of the FTZ Staff has been designated examiner to investigate the application and report to the Board.

As part of the investigation, the Commerce examiner will hold a public hearing on March 3rd, at 2 p.m., at the Vermont Agricultural Business Education Center (VABEC), Community Room, 11 University Way, Brattleboro, Vermont 05301.

Public comment on the application is invited from interested parties. Submissions (original and 3 copies) shall be addressed to the Board's Executive Secretary at one of the following addresses:

1. Submissions via Express/Package Delivery Service: Foreign-Trade Zones Board, U.S. Department of Commerce, Franklin Court Building—Suite 4100W, 1099 14th Street, NW., Washington, DC 20005; or

2. Submissions via the U.S. Postal Service: Foreign-Trade Zones Board, U.S. Department of Commerce, FCB—Suite 4100W, 1401 Constitution Avenue NW., Washington, DC 20230.

The closing period for their receipt is April 11, 2005. Rebuttal comments in response to material submitted during the foregoing period may be submitted during the subsequent 15-day period (to April 25, 2005).

A copy of the application and accompanying exhibits will be available for public inspection at the Office of the Foreign-Trade Zones Board's Executive Secretary at the first address listed above, and Assessor's Office, Brattleboro Town Hall, 230 Main Street, Brattleboro, Vermont.

Dated: February 1, 2005.
Dennis Puccinelli,
Executive Secretary.

[FR Doc. 05-2432 Filed 2-7-05; 8:45 am]

BILLING CODE 3510-DG-P